FEDERAL COMMUNICATIONS COMMISSION

47 CFR Parts 2 and 87

[WT Docket No. 01-289; FCC 06-148]

Aviation Communications

AGENCY: Federal Communications Commission.

ACTION: Notice of proposed rulemaking.

SUMMARY: In this document, the Federal Communications Commission (Commission or FCC) invites comment on issues regarding aviation radio, in keeping with the Commission's ongoing commitment to periodically review and, as needed, revise its aviation services rules in light of relevant developments.

DATES: Submit comments on or before March 6, 2007, and reply comments are due on or before April 5, 2007.

ADDRESSES: You may submit comments, identified by WT Docket No. 01-289; FCC 06-148, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Jeffrey Tobias, at Jeff.Tobias@FCC.gov, Wireless Telecommunications Bureau, (202) 418-1617, or TTY (202) 418-7233.

SUPPLEMENTARY INFORMATION: This is a summary of the Commission's Second Further Notice of Proposed Rule Making (“Second FNPRM”) in WT Docket No. 01-289, FCC 06-148, adopted on October 4, 2006, and released on October 10, 2006. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. The WT Docket No. 01-289 rulemaking proceeding was established to ensure that part 87 of the Commission's rules remains up-to-date and continues to further the Commission's goals of accommodating new technologies, facilitating the efficient and effective use of the aeronautical spectrum, avoiding unnecessary regulation, and, above all, enhancing the safety of flight. The Commission takes the following significant actions in the Second FNPRM in WT Docket No. 01-289: (i) Invites further comment on technical standards and regulatory provisions for Aeronautical Mobile Satellite (Route) Service (AMS(R)S) in the 1.6 GHz, 2 GHz, and 5 GHz frequency bands, including whether to revise the AMS(R)S technical standards to accommodate additional satellite systems and whether to accord priority and preemptive access to AMS(R)S communications in these bands; (ii) proposes to delete a regulatory provision which permits limited use of the VHF band for AMS(R)S communications; (iii) invites comment on whether the Commission should consider proposing rules that would require a transition to 8.33 kHz channelization in the aeronautical enroute service; (iv) invites comment on whether the Commission should reduce the number of frequencies designated for Flight Information Services—Broadcast (FIS-B); (v) proposes to codify the terms of special temporary authorizations (STAs) permitting the use of specified frequencies for air-to-air communications in Hawaii and in the Los Angeles area; (vi) proposes to clarify the circumstances under which an airport is limited to a single aeronautical advisory station (unicom); (vii) invites comment on whether the Commission should permit the assignment and transfer of control of aircraft radio licenses; and (viii) invites comment on whether the Commission should phase out its authorization of emergency locator transmitters (ELTs) designed to operate on 121.5 MHz.

I. Procedural Matters

A. Ex Parte Rules—Permit-But-Disclose Proceeding

2. This is a permit-but-disclose notice and comment rulemaking proceeding. Ex parte presentations are permitted, except during the Sunshine Agenda period, provided they are disclosed as provided in the Commission's rules.

B. Comment Dates

3. Pursuant to §§ 1.415 and 1.419 of the Commission's rules, 47 CFR 1.415 and 1.419, interested parties may file comments on or before March 6, 2007 and reply comments on or before April 5, 2007. All filings related to this Second Report and Order should refer to WT Docket No. 01-289.

4. Comments may be filed using the Commission's Electronic Comment Filing System (ECFS), the Federal Government's eRulemaking Portal, or by filing paper copies. See Electronic Filing of Documents in Rulemaking Proceedings, 63 FR 24121 (1998).

5. Comments may be filed electronically using the Internet by accessing the ECFS: http://www.fcc.gov/cgb/ecfs/ or the Federal eRulemaking Portal: http://www.regulations.gov. Filers should follow the instructions provided on the Web site for submitting comments.

6. For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

7. Parties who choose to file by paper must file an original and four copies of each filing. If more than one docket or rulemaking number appears in the caption of this proceeding, filers must submit two additional copies for each additional docket or rulemaking number.

8. Filings can be sent by hand or messenger delivery, by commercial overnight courier, or by first-class or overnight U.S. Postal Service mail (although we continue to experience delays in receiving U.S. Postal Service mail). All filings must be addressed to the Commission's Secretary, Office of the Secretary, Federal Communications Commission.

9. The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

10. Commercial overnight mail (other than U.S. Postal Service Express Mail and Priority Mail) must be sent to 9300 East Hampton Drive, Capitol Heights, MD 20743.

11. U.S. Postal Service first-class, Express, and Priority mail should be addressed to 445 12th Street, SW., Washington, DC 20554.

12. All filings must be addressed to the Commission's Secretary, Marlene H. Dortch, Office of the Secretary, Federal Communications Commission, 445 12th Street, SW., Washington, DC 20554. Parties shall also serve one copy with the Commission's copy contractor, Best Copy and Printing, Inc. (BCPI), Portals II, 445 12th Street, SW., Room CY-B402, Washington, DC 20554, (202) 488-5300, or via e-mail to fcc@bcpiweb.com.

13. Availability of documents. The public may view the documents filed in this proceeding during regular business hours in the FCC Reference Information Center, Federal Communications Commission, 445 12th Street, SW., Room CY-A257, Washington, DC 20554, and on the Commission's Internet Home Page: http://www.fcc.gov. Copies of comments and reply comments are also available through the Commission's duplicating contractor: Best Copy and Printing, Inc. (BCPI), Portals II, 445 12th Street, SW., Room CY-B402, Washington, DC 20554, telephone 1-800-378-3160, may be reached by e-mail at fcc@bcpiweb.com or via BCPI's Web site at http://www.bcpiweb.com. To request materials in accessible formats for people with disabilities (braille, large print, electronic files, audio format), send an e-mail to fcc504@fcc.gov or call the Consumer & Governmental Affairs Bureau at 202-418-0530 (voice), 202-418-0432 (tty).

C. Paperwork Reduction Act

14. This document does not contain proposed information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

II. Initial Regulatory Flexibility Analysis

15. As required by the Regulatory Flexibility Act (RFA), the Commission has prepared this present Initial Regulatory Flexibility Analysis (IRFA) of the possible significant economic impact on small entities by the policies and rules proposed in the Second FNPRM. Written public comments are requested on this IRFA. Comments must be identified as responses to the IRFA and must be filed by the deadlines for comments on the Second FNPRM as provided in paragraph 49 of the item. The Commission will send a copy of the Second FNPRM, including this IRFA, to the Chief Counsel for Advocacy of the U.S. Small Business Administration. In addition, a copy of the Second FNPRM and IRFA (or summaries thereof) will also be published in the Federal Register.

Need for, and Objectives of, the Proposed Rules:

16. The proposed rules in the Second FNPRM are intended to further streamline, consolidate and clarify the Commission's part 87 rules; remove unnecessary or duplicative requirements; address new international requirements; and promote flexibility and efficiency in the use of aviation radio equipment in a manner that will further aviation safety. In the Second FNPRM, the Commission requests comment specifically on whether the Commission should: (a) Broaden the AMS(R)S rules to accommodate the provision of AMS(R)S by additional satellite systems; (b) mandate that AMS(R)S communications in the 1.6 GHz, 2 GHz, and 5 GHz frequency bands be given priority and preemptive access; (c) delete a regulatory provision which permits limited use of the VHF band for AMS(R)S communications; (d) consider proposing rules that would require a transition to 8.33 kHz channelization in the aeronautical enroute service; (e) reduce the number of frequencies designated for FIS-B; (f) codify the terms of an STA permitting the use of specified frequencies for air-to-air communications in Hawaii; (g) codify the terms of an STA permitting the use of specified frequencies for air-to-air communications in the Los Angeles area; (h) clarify the circumstances under which an airport is limited to a single aeronautical advisory station (unicom); (i) permit the assignment and transfer of control of aircraft radio licenses; and (j) phase out the authorization of ELTs designed to operate on 121.5 MHz.

Legal Basis for Proposed Rules:

17. Authority for issuance of this item is contained in sections 4(i), 303(r), and 403 of the Communications Act of 1934, as amended, 47 U.S.C. 154(i), 303(r) and 403.

Description and Estimate of the Number of Small Entities to Which the Proposed Rules Will Apply:

18. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one that: (1) Is independently owned and operated; (2) is not dominant in its field of operation; and (3) satisfies any additional criteria established by the SBA. Pursuant to 5 U.S.C. 601(3), the statutory definition of a small business applies “unless an agency after consultation with the Office of Advocacy of the SBA, and after opportunity for public comment, establishes one or more definitions of such term which are appropriate to the activities of the agency and publishes such definition(s) in the Federal Register.”

19. Small businesses in the aviation and marine radio services use a marine very high frequency (VHF), medium frequency (MF), or high frequency (HF) radio, any type of emergency position indicating radio beacon (EPIRB) and/or radar, an aircraft radio, and/or any type of emergency locator transmitter (ELT). The Commission has not developed a definition of small entities specifically applicable to these small businesses. For purposes of this IRFA, therefore, the applicable definition of small entity is the definition under the SBA rules applicable to wireless service providers. The SBA has developed a small business size standard for wireless firms within the two broad economic census categories of “Paging” and “Cellular and Other Wireless Telecommunications.” Under both categories, the SBA deems a wireless business to be small if it has 1,500 or fewer employees. For the census category of Paging, Census Bureau data for 2002 show that there were 807 firms in this category that operated for the entire year. Of this total, 804 firms had employment of 999 or fewer employees, and three firms had employment of 1,000 employees or more. Thus, under this category and associated small business size standard, the majority of firms can be considered small. For the census category of Cellular and Other Wireless Telecommunications, Census Bureau data for 2002 show that there were 1,397 firms in this category that operated for the entire year. Of this total, 1,378 firms had employment of 999 or fewer employees, and 19 firms had employment of 1,000 employees or more. Thus, under this second category and size standard, the majority of firms can, again, be considered small.

20. Some of the rules proposed herein may also affect small businesses that manufacture aviation radio equipment. The Commission has not developed a definition of small entities applicable to aviation radio equipment manufacturers. Therefore, the applicable definition is that for Radio and Television Broadcasting and Wireless Communications Equipment Manufacturers. The Census Bureau defines this category as follows: “This industry comprises establishments primarily engaged in manufacturing radio and television broadcast and wireless communications equipment. Examples of products made by these establishments are: transmitting and receiving antennas, cable television equipment, GPS equipment, pagers, cellular phones, mobile communications equipment, and radio and television studio and broadcasting equipment.” The SBA has developed a small business size standard for Radio and Television Broadcasting and Wireless Communications Equipment Manufacturing, which is: all such firms having 750 or fewer employees. According to Census Bureau data for 2002, there were a total of 1,041 establishments in this category that operated for the entire year. Of this total, 1,010 had employment of under 500, and an additional 13 had employment of 500 to 999. Thus, under this size standard, the majority of firms can be considered small.

21. Some of the rules proposed herein may also affect providers of satellite telecommunications services. There is no small business size standard developed specifically for providers of international service. The appropriate size standards under SBA rules are for the two broad census categories of “Satellite Telecommunications” and “Other Telecommunications.” Under both categories, such a business is small if it has $13.5 million or less in average annual receipts.

22. The first category of Satellite Telecommunications “comprises establishments primarily engaged in providing point-to-point telecommunications services to other establishments in the telecommunications and broadcasting industries by forwarding and receiving communications signals via a system of satellites or reselling satellite telecommunications.” For this category, Census Bureau data for 2002 show that there were a total of 371 firms that operated for the entire year. Of this total, 307 firms had annual receipts of under $10 million, and 26 firms had receipts of $10 million to $24,999,999. Consequently, we estimate that the majority of Satellite Telecommunications firms are small entities that might be affected by our action.

23. The second category of Other Telecommunications “comprises establishments primarily engaged in (1) providing specialized telecommunications applications, such as satellite tracking, communications telemetry, and radar station operations; or (2) providing satellite terminal stations and associated facilities operationally connected with one or more terrestrial communications systems and capable of transmitting telecommunications to or receiving telecommunications from satellite systems.” For this category, Census Bureau data for 2002 show that there were a total of 332 firms that operated for the entire year. Of this total, 259 firms had annual receipts of under $10 million and 15 firms had annual receipts of $10 million to $24,999,999. Consequently, we estimate that the majority of Other Telecommunications firms are small entities that might be affected by our action.

Description of Projected Reporting, Recordkeeping, and Other Compliance Requirements:

24. Most of the possible rule changes under consideration in the Second FNPRM generally would not impose any new compliance requirements on any entity. The proposals to codify existing STAs would, if adopted, relieve aircraft operators in Hawaii and the Los Angeles area of the regulatory restrictions that impelled them to seek those STAs. With two exceptions, the Commission believes the other proposed rules would have no significant effect on the compliance burdens of regulatees. The Commission invites comment on its tentative conclusion that the following possible rule changes will not have a negative impact on small entities, or for that matter any entities, and do not impose new compliance costs on any entity: (1) Reducing the number of frequencies designated for FIS-B; (2) codifying the terms of the STA permitting the use of specified frequencies for air-to-air communications in Hawaii; (3) codifying the terms of the STA permitting the use of specified frequencies for air-to-air communications in the Los Angeles area; (4) clarifying the circumstances under which an airport is limited to a single unicom; (5) permitting the assignment and transfer of control of aircraft radio licenses; (6) phasing out the authorization of ELTs designed to operate on 121.5 MHz; and (7) deleting a regulatory provision which permits limited use of the VHF band for AMS(R)S communications. To the extent that commenters believe that any of the above possible rule changes would impose a new reporting, recordkeeping, or compliance burden on small entities, the Commission asks that they describe the nature of that burden in some detail and, if possible, quantify the costs to small entities.

25. The Commission is considering in the Second FNPRM whether to mandate that mobile satellite systems providing AMS(R)S accord priority and preemptive access to AMS(R)S communications vis-a-vis public correspondence and other non-safety-related communications in the 1.6 MHz, 2 MHz, and 5 MHz bands, as they already are required to do in the 1545-1559 MHz and 1646.5-1660.5 MHz bands. To the extent that such a requirement would impose a new compliance burden, however, the burden would fall only on mobile satellite service (MSS) licensees. MSS licensees are not small entities. Accordingly, we do not believe this requirement will have a direct and significant economic impact on any small entities.

26. In addition, the Commission believes that mandating a transition to 8.33 kHz channel spacing in the aeronautical enroute service might impose a new compliance burden on aircraft station licensees because of the need to replace existing avionics equipment designed to operate with 25 kHz channel spacing. This burden might be incurred not only by the major air carriers, but also by smaller carriers and others that may qualify as small entities. In the Second FNPRM, the Commission seeks comment on whether the public interest benefits of a mandatory narrowbanding of the aeronautical enroute spectrum would outweigh the costs and difficulties that such an effort would engender. The Commission seeks estimates of projected compliance costs, with an explanation of all assumptions on which the estimates are based. The Commission here reiterates that request, and specifically asks interested parties to address potential compliance costs for small entities.

Steps Taken to Minimize Significant Economic Impact on Small Entities, and Significant Alternatives Considered:

27. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

28. In the Second FNPRM, the Commission requests further comment on, among other things, the nature of any burden that might be incurred by MSS licensees if required to provide priority and preemptive access to AMS(R)S communications in the 1.6 GHz, 2 GHz, and 5 GHz frequency bands. For reasons stated above, the Commission believes MSS licensees are not small entities. Commenters who believe otherwise are invited to explain why MSS licensees should be deemed small entities, and to propose steps, such as those described in the immediately preceding paragraph, that might eliminate or minimize the burden of a priority and preemptive access requirement on MSS licensees.

29. In the Second FNPRM, the Commission also seeks comment on various means of limiting the impact of a transition to 8.33 kHz channel spacing in the aeronautical enroute service in the event such a transition is mandated. It asks commenters to suggest the appropriate duration of any period(s) of transition and to consider whether grandfathering provisions of some sort should be adopted to mitigate the costs of retrofitting aircraft. It also asks whether transition schedules should be staggered based on criteria relating to the size of the carrier or the class of aircraft. The Commission reiterates those requests here, and ask interested parties to consider any other means to lessen potential compliance burdens on small entities if the Commission ultimately mandates a transition to 8.33 kHz channel spacing in the aeronautical enroute service. In addition, to the extent commenters believe any of the other possible rule changes discussed in the Second FNPRM might impose any significant economic impact on small entities, the Commission invites them to address any or all of the aforementioned regulatory alternatives and to suggest additional alternatives to minimize that impact. Any significant alternative presented in the comments will be considered.

Federal Rules that May Duplicate, Overlap, or Conflict With the Proposed Rules:

30. None.

III. Ordering Clauses

31. Pursuant to sections 4(i), 303(r), and 403 of the Communications Act of 1934, as amended, 47 U.S.C. 154(i), 303(r) and 403, this Second FNPRM is adopted.

32. Pursuant to the applicable procedures set forth in §§ 1.415 and 1.419 of the Commission's rules, 47 CFR 1.415 and 1.419, interested parties may file comments on this Second FNPRM on or before 90 days after publication in the Federal Register and reply comments on or before 120 days after publication in the Federal Register.

33. The Commission's Consumer Information Bureau, Reference Information Center, SHALL SEND a copy of this Second FNPRM and also the IRFA, to the Chief Counsel for Advocacy of the Small Business Administration.

List of Subjects

47 CFR Part 2

Communications equipment; Disaster assistance; Imports; Radio; Reporting and recordkeeping requirements; Telecommunications; Television; Wiretapping and electronic surveillance.

47 CFR Part 87

Air transportation; Civil defense; Communications equipment; Defense communications; Radio; Reporting and recordkeeping requirements; Weather.

Federal Communications Commission.
Marlene H. Dortch,
Secretary.

Proposed Rules

For the reasons discussed in the preamble, the Federal Communications Commission proposes to amend 47 CFR parts 2 and 87 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Amend Section 2.106, the Table of Frequency Allocations, as follows:

a. Revise page 18.

b. In the list of United States footnotes, add footnote USxxx.

The revisions and additions read as follows:

§ 2.106 Table of Frequency Allocations.

* * * * *

BILLING CODE 6712-01-P

BILLING CODE 6712-01-C

United States (US) Footnotes

* * * * *

USxxx In Hawaii, the frequencies 120.65 MHz and 127.05 MHz may be authorized to non-Federal aircraft stations for air-to-air communications as specified in 47 CFR 87.187.

* * * * *

PART 87—AVIATION SERVICES

3. The authority citation for part 87 continues to read as follows:

Authority: 47 U.S.C. 154, 303 and 307(e), unless otherwise noted.

4. Amend § 87.187 by adding new paragraphs (gg) and (hh) to read as follows:

§ 87.187 Frequencies.

* * * * *

(gg)(1) The frequency 120.650 MHz is authorized for air-to-air communications for aircraft over and within five nautical miles of the shoreline of the Hawaiian Island of Maui.

(2) The frequency 121.950 MHz is authorized for air-to-air use for aircraft over and within five nautical miles of the shoreline of the Hawaiian Island of Molokai.

(3) The frequency 122.850 MHz is authorized for air-to-air use for aircraft over and within five nautical miles of the shoreline of the Hawaiian Island of Oahu.

(4) The frequency 122.850 MHz is authorized for aircraft over and within five nautical miles of the shoreline of the Hawaiian Island of Hawaii when aircraft are south and east of the 215 degree radial of very high frequency omni-directional radio range of Hilo International Airport.

(5) The frequency 127.050 MHz is authorized for air-to-air use for aircraft over and within five nautical miles of the shoreline of the Hawaiian Island of Hawaii when aircraft are north and west of the 215 degree radial of very high frequency omni-directional radio range of Hilo International Airport.

(6) The frequency 127.050 MHz is authorized for air-to-air use for aircraft over and within five nautical miles of the Hawaiian Island of Kauai.

(hh)(1) The frequency 121.95 MHz is authorized for air-to-air communications for aircraft within the area bounded by the following coordinates (all coordinates are referenced to North American Datum 1983 (NAD83)):

33-46-00 N. Lat.; 118-27-00 W. Long.

33-47-00 N. Lat.; 118-12-00 W. Long.

33-40-00 N. Lat.; 118-00-00 W. Long.

33-35-00 N. Lat.; 118-08-00 W. Long.

34-00-00 N. Lat.; 118-26-00 W. Long.

(2) The frequency 122.775 MHz is authorized for air-to-air communications for aircraft within the area bounded by the following coordinates (all coordinates are referenced to North American Datum 1983 (NAD83)):

34-22-00 N. Lat.; 118-30-00 W. Long.

34-35-00 N. Lat.; 118-15-00 W. Long.

34-27-00 N. Lat.; 118-15-00 W. Long.

34-16-00 N. Lat.; 118-35-00 W. Long.

34-06-00 N. Lat.; 118-35-00 W. Long.

34-05-00 N. Lat.; 118-50-00 W. Long.

(3) The frequency 123.30 MHz is authorized for air-to-air communications for aircraft within the area bounded by the following coordinates (all coordinates are referenced to North American Datum 1983 (NAD83)):

34-08-00 N. Lat.; 118-00-00 W. Long.

34-10-00 N. Lat.; 117-08-00 W. Long.

34-00-00 N. Lat.; 117-08-00 W. Long.

33-53-00 N. Lat.; 117-42-00 W. Long.

33-58-00 N. Lat.; 118-00-00 W. Long.

(4) The frequency 123.50 MHz is authorized for air-to-air communications for aircraft within the area bounded by the following coordinates (all coordinates are referenced to North American Datum 1983 (NAD83)):

33-53-00 N. Lat.; 117-37-00 W. Long.

34-00-00 N. Lat.; 117-15-00 W. Long.

34-00-00 N. Lat.; 117-07-00 W. Long.

33-28-00 N. Lat.; 116-55-00 W. Long.

33-27-00 N. Lat.; 117-12-00 W. Long.

(5) The frequency 123.50 MHz is authorized for air-to-air communications for aircraft within the area bounded by the following coordinates (all coordinates are referenced to North American Datum 1983 (NAD83)):

33-50-00 N. Lat.; 117-48-00 W. Long.

33-51-00 N. Lat.; 117-41-00 W. Long.

33-38-00 N. Lat.; 117-30-00 W. Long.

33-30-00 N. Lat.; 117-30-00 W. Long.

33-30-00 N. Lat.; 117-49-00 W. Long.

5. Amend § 87.215 by revising paragraph (b) to read as follows:

§ 87.215 Supplemental Eligibility.

* * * * *

(b) Only one unicom will be authorized to operate at an airport which does not have a control tower, RCO or FAA flight service station that effectively controls traffic at the airport (i.e., where the unicom frequency is not the published common traffic advisory frequency). At an airport which has a part-time or full-time control tower, RCO or FAA flight service station that effectively controls traffic at the airport, the one unicom limitation does not apply and the airport operator and all aviation services organizations may be licensed to operate a unicom on the assigned frequency.

* * * * *

[FR Doc. E6-20451 Filed 12-5-06; 8:45 am]

BILLING CODE 6712-01-P